DEPARTMENT OF LABOR

Office of the Secretary

Submission for OMB Review: Comment Request

The Department of Labor (DOL) hereby announces the submission of the information collection request (ICR) titled, Resource Justification Model, to the Office of Management and Budget (OMB) for review and approval in accordance with the Paperwork Reduction Act of 1995 (Pub. L. 104-13, 44 U.S.C. chapter 35). A copy of this ICR, with applicable supporting documentation; including a description of the likely respondents, proposed frequency of response, and estimated total burden may be obtained from the RegInfo.gov Web site, http://www.reginfo.gov/public/do/PRAMain or by contacting Michel Smyth at 202-693-4129 (this is not a toll-free number)/e-mail: smyth.michel@dol.gov.

Interested parties are encouraged to send comments to the Office of Information and Regulatory Affairs, Attn: OMB Desk Officer for the Employment and Training Administration, Office of Management and Budget, Room 10235, Washington, DC 20503, Telephone: 202-395-6929/Fax: 202-395-6974 (these are not toll-free numbers), E-mail: OIRA_submission@omb.eop.gov within 30 days from the date of this publication in the Federal Register. In order to ensure the appropriate consideration, comments should reference OMB Control Number 1205-0430. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of currently approved collection.

Title of Collection: Resource Justification Model.

OMB Control Number: 1205-0430.

Affected Public: State, Local, and Tribal Governments.

Total Estimated Number of Respondents: 53.

Total Estimated Number of Responses: 212.

Total Estimated Annual Burden Hours: 6519.

Total Estimated Annual Costs Burden: $0.

Description: The collection of actual Unemployment Insurance (UI) administrative cost data from states' accounting records and projected expenditures for upcoming years is accomplished through the Resource Justification Model data collection instrument. The data collected consists of the actual, most recently completed fiscal year's program expenditures and hours broken out by functional activity and two years of projected expenditures. The actual cost data informs Employment and Training Administration's administrative funding allocation model so that state UI program administration funds are allocated as equitably as possible among states. For additional information, see related notice published at 75 FR 34767 on June 18, 2010.

Dated: September 17, 2010.
Michel Smyth,
Departmental Clearance Officer.

[FR Doc. 2010-23891 Filed 9-23-10; 8:45 am]

BILLING CODE 4510-FW-P